DEPARTMENT OF HOMELAND SECURITY

Federal Emergency Management Agency

44 CFR Part 67

[Docket ID FEMA-2010-0003; Internal Agency Docket No. FEMA-B-1101]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1101, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Town of Lincoln, New Hampshire
New Hampshire | Town of Lincoln | East Branch Pemigewasset River | Approximately 1,800 feet downstream of the Richard Cooper Memorial Bridge | None | * 781
|  |  | Approximately 375 feet south of the intersection of Lodge Road and Main Street/State Highway 112 | None | * 831
National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Lincoln
Maps are available for inspection at the Town Hall, 148 Main Street, Lincoln, NH 03251.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Coles County, Illinois, and Incorporated Areas
Cassell Creek | Approximately 1,650 feet upstream of the confluence with Town Branch Creek | None | +613 | City of Charleston.
| Approximately at the upstream side of the railroad (removed) | None | +619
Town Branch Creek | Approximately 0.19 mile downstream of the railroad | None | +616 | City of Charleston.
| Approximately 0.08 mile downstream of the railroad | None | +617
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Charleston
Maps are available for inspection at City Hall, 520 Jackson Avenue, Charleston, IL 61920.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Moultrie County, Illinois, and Incorporated Areas
Dalton City Drain | At the confluence with Marrowbone Creek | None | +672 | Unincorporated Areas of Moultrie County.
| At State Route 128 | None | +687
Lowe No. 2 | Approximately 1,100 feet downstream of Vine Street | None | +656 | Unincorporated Areas of Moultrie County.
| Approximately 540 feet upstream of Progress Street | None | +662
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Moultrie County
Maps are available for inspection at the County Courthouse, Planning and Zoning Department, 10 South Main Street, Suite 1, Sullivan, IL 61951.
Madison County, Kentucky, and Incorporated Areas
Brushy Fork | At the confluence with Silver Creek | None | +922 | City of Berea, Unincorporated Areas of Madison County.
| Approximately 305 feet upstream of Mt. Vernon Road | None | +976
Calloway Creek (Backwater effects from Kentucky River) | From the confluence with the Kentucky River to approximately 3,680 feet upstream of the confluence with the Kentucky River | None | +590 | Unincorporated Areas of Madison County.
Clear Creek 1 (Backwater effects from Kentucky River) | From the confluence with Muddy Creek to approximately 635 feet upstream of Doylesville Road | None | +600 | Unincorporated Areas of Madison County.
Dreaming Creek Tributary | At the confluence with Dreaming Creek | None | +837 | City of Richmond, Unincorporated Areas of Madison County.
| Approximately 0.7 mile upstream of Old Wilderness Trail | None | +917
Drowning Creek (Backwater effects from Kentucky River) | From the confluence with the Kentucky River to approximately 845 feet upstream of the confluence with Drowning Creek Tributary 3 | None | +620 | Unincorporated Areas of Madison County.
Drowning Creek Tributary 3 (Backwater effects from Kentucky River) | From the confluence with Drowning Creek to approximately 1,245 feet upstream of the confluence with Drowning Creek | None | +620 | Unincorporated Areas of Madison County.
East Fork Silver Creek (Backwater effects from Silver Creek) | From the confluence with Silver Creek to approximately 80 feet upstream of Gabbard Town Road | None | +843 | City of Berea, Unincorporated Areas of Madison County.
Falling Branch (Backwater effects from Kentucky River) | From the confluence with the Kentucky River to approximately 0.5 mile upstream of the confluence with the Kentucky River | None | +619 | Unincorporated Areas of Madison County.
Flint Creek (Backwater effects from Kentucky River) | From the confluence with the Kentucky River to approximately 0.5 mile upstream of the confluence with the Kentucky River | None | +615 | Unincorporated Areas of Madison County.
Hines Creek (Backwater effects from Kentucky River) | From the confluence with the Kentucky River to approximately 2,284 feet upstream of the confluence with the Kentucky River | None | +586 | Unincorporated Areas of Madison County.
Jacks Creek (Backwater effects from Kentucky River) | From the confluence with the Kentucky River to approximately 2,120 feet upstream of the confluence with the Kentucky River | None | +585 | Unincorporated Areas of Madison County.
Kentucky River | At the confluence with Paint Lick Creek | +572 | +573 | Unincorporated Areas of Madison County.
| At the confluence with Drowning Creek | None | +620
Kentucky River Tributary 3 (Backwater effects from Kentucky River) | From the confluence with the Kentucky River to approximately 0.8 mile upstream of the confluence with the Kentucky River | None | +618 | Unincorporated Areas of Madison County.
Muddy Creek (Backwater effects from Kentucky River) | From the confluence with the Kentucky River to approximately 0.6 mile upstream of Doylesville Road | None | +600 | Unincorporated Areas of Madison County.
Old Town Branch (Backwater effects from Taylor Fork) | From the confluence with Taylor Fork to approximately 1,950 feet upstream of the confluence with Taylor Fork | None | +829 | Unincorporated Areas of Madison County.
Otter Creek | Approximately 0.7 mile downstream of Four Mile Road | None | +800 | City of Richmond, Unincorporated Areas of Madison County.
| Just upstream of Catalpa Loop | None | +843
Otter Creek (Backwater effects from Kentucky River) | From the confluence with the Kentucky River to approximately 680 feet upstream of Boonesborough Road | None | +594 | Unincorporated Areas of Madison County.
Otter Creek Tributary 1 | At the confluence with Otter Creek | None | +843 | City of Richmond, Unincorporated Areas of Madison County.
| Just downstream of Big Hill Avenue | None | +890
Otter Creek Tributary 2 | At the confluence with Otter Creek | None | +814 | City of Richmond, Unincorporated Areas of Madison County.
| Approximately 755 feet upstream of Douglas Court | None | +895
Paint Lick Creek (Backwater effects from Kentucky River) | From the confluence with the Kentucky River to approximately 1,135 feet downstream of the confluence with Sledd Branch | None | +573 | Unincorporated Areas of Madison County.
Rocky Lick Branch (Backwater effects from Kentucky River) | From the confluence with Muddy Creek to approximately 430 feet downstream of Walker Parke Road | None | +600 | Unincorporated Areas of Madison County.
Silver Creek | Just downstream of Richmond Road North | None | +904 | City of Berea, Unincorporated Areas of Madison County.
| Approximately 525 feet upstream of KY-21 | None | +944
Silver Creek (Backwater effects from Kentucky River) | From the confluence with the Kentucky River to approximately 813 feet upstream of the confluence with Jackson Branch | None | +576 | Unincorporated Areas of Madison County.
Stony Fork (Backwater effects from Kentucky River) | From the confluence with the Kentucky River to approximately 858 feet upstream of Whitlock Road | None | +577 | Unincorporated Areas of Madison County.
Tate Creek (Backwater effects from Kentucky River) | From the confluence with the Kentucky River to just upstream of Tates Creek Road | +582 | +583 | City of Richmond, Unincorporated Areas of Madison County.
Taylor Fork | Approximately 0.5 mile upstream of Curtis Pike | None | +829 | City of Richmond, Unincorporated Areas of Madison County.
| Approximately 0.7 mile upstream of the confluence with Taylor Fork Tributary 1 | None | +970
Taylor Fork Tributary 1 | At the confluence with Taylor Fork | None | +930 | City of Richmond, Unincorporated Areas of Madison County.
| Approximately 0.5 mile upstream of the confluence with Taylor Fork | None | +978
Taylor Fork Tributary 2 | At the confluence with Taylor Fork | None | +884 | City of Richmond, Unincorporated Areas of Madison County.
| Approximately 100 feet downstream of Vickers Drive | None | +958
Taylor Fork Tributary 2A | At the confluence with Taylor Fork Tributary 2 | None | +897 | City of Richmond, Unincorporated Areas of Madison County.
| Approximately 1,775 feet upstream of the confluence with Taylor Fork Tributary 2 | None | +929
Taylor Fork Tributary 3 | At the confluence with Taylor Fork | None | +878 | City of Richmond, Unincorporated Areas of Madison County.
| Approximately 0.5 mile upstream of the confluence with Taylor Fork | None | +931
Taylor Fork Tributary 4 | At the confluence with Taylor Fork | None | +874 | City of Richmond, Unincorporated Areas of Madison County.
| Approximately 0.4 mile upstream of the confluence with Taylor Fork | None | +928
Taylor Fork Tributary 5 | At the confluence with Taylor Fork | None | +865 | City of Richmond, Unincorporated Areas of Madison County.
| Approximately 200 feet upstream of Alycia Drive | None | +916
Taylor Fork Tributary 6 | At the confluence with Taylor Fork | None | +834 | City of Richmond, Unincorporated Areas of Madison County.
| Approximately 850 feet upstream of Idylwild Court | None | +944
Taylor Fork Tributary 7 | At the confluence with Taylor Fork | None | +829 | City of Richmond, Unincorporated Areas of Madison County.
| Approximately 1,855 feet upstream of the confluence with Taylor Fork | None | +843
Terrill Branch (Backwater effects from Silver Creek) | From the confluence with Silver Creek to approximately 0.4 mile upstream of the confluence with Silver Creek | None | +911 | City of Berea, Unincorporated Areas of Madison County.
Upper Tate Creek | Approximately 310 feet downstream of Finney Fork Road | None | +784 | City of Richmond, Unincorporated Areas of Madison County.
| Approximately 945 feet upstream of Stocker Drive | None | +928
Walnut Meadow Branch | Approximately 460 feet downstream of Guynn Road | None | +893 | City of Berea, Unincorporated Areas of Madison County.
| Approximately 640 feet upstream of Ginger Drive | None | +935
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Berea
Maps are available for inspection at 212 Chestnut Street, Berea, KY 40403.
City of Richmond
Maps are available for inspection at 239 West Main Street, Richmond, KY 40475.
Unincorporated Areas of Madison County
Maps are available for inspection at 101 West Main Street, Richmond, KY 40475.
Anne Arundel County, Maryland, and Incorporated Areas
Cabin Branch | Approximately 0.51 mile downstream of I-95 | +115 | +116 | Unincorporated Areas of Anne Arundel County.
| Approximately 325 feet upstream of Andover Road | +115 | +118
Franklin Branch | At the confluence with Midway Branch | None | +117 | Unincorporated Areas of Anne Arundel County.
| Approximately 780 feet upstream of Clark Road | None | +214
Little Patuxent River | Approximately 600 feet upstream of the confluence with the Patuxent River | +43 | +46 | Unincorporated Areas of Anne Arundel County.
| Approximately 270 feet downstream of Brock Bridge Road | +130 | +131
Marley Creek | Approximately 900 feet downstream of Ritchie Highway | +8 | +9 | Unincorporated Areas of Anne Arundel County.
| Approximately 0.20 mile upstream of Nolberry Drive | None | +51
Midway Branch | At the confluence with the Little Patuxent River | +76 | +77 | Unincorporated Areas of Anne Arundel County.
| Approximately 0.59 mile upstream of Clark Road | None | +211
Patapsco River | Approximately 0.77 mile downstream of the Harbor Tunnel Thruway | +9 | +12 | Unincorporated Areas of Anne Arundel County.
| Approximately 0.57 mile upstream of Laurel Fort Meade Road | +139 | +140
Patuxent River | Approximately 2.52 miles downstream of Queen Anne Bridge Road | +20 | +21 | Unincorporated Areas of Anne Arundel County.
| Approximately 0.57 mile upstream of Laurel Fort Meade Road | +139 | +140
Sawmill Creek | At the upstream side of Crain Highway | +11 | +10 | Unincorporated Areas of Anne Arundel County.
| Approximately 400 feet upstream of Washington Baltimore and Annapolis Road | None | +105
Severn Run | Approximately 0.23 mile downstream of Veterans Highway | +6 | +8 | Unincorporated Areas of Anne Arundel County.
| Approximately 0.57 mile upstream of Disney Road | None | +166
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Anne Arundel County
Maps are available for inspection at the County Courthouse, 2604 Riva Road, Annapolis, MD 21404.
Calvert County, Maryland, and Incorporated Areas
Hall Creek | At the confluence with the Patuxent River | +7 | +9 | Unincorporated Areas of Calvert County.
| Approximately 0.52 mile downstream of Southern Maryland Boulevard | +9 | +11
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Calvert County
Maps are available for inspection at the County Courthouse, 175 Main Street, Prince Frederick, MD 20678.
Benton County, Oregon, and Incorporated Areas
Willamette River | Approximately 400 feet upstream of Reiling Lane near the Long Tom River | None | +282 | City of Monroe.
| Approximately 0.43 mile upstream of Reiling Lane near the Long Tom River | None | +282
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Monroe
Maps are available for inspection at 664 Commercial Street, Monroe, OR 97456.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12492 Filed 5-24-10; 8:45 am]

BILLING CODE 9110-12-P